DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer at (240) 276-1243.

Comments are invited on (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of the Underage Drinking Prevention Education Initiatives State Videos Project—New

The Substance Abuse and Mental Health Services Administration's Center for Substance Abuse Prevention (CSAP) is requesting Office of Management and Budget (OMB) approval of three new data collection instruments—

• State Video Contacts Form;

• Video Viewers Form; and

• Dissemination Update Online Form.

This new information collection is for the assessment of the 2010-2013 Underage Drinking Prevention Education Initiatives State Videos project. In 2007, four States participated in a pilot study to produce videos on the topic of underage drinking prevention. Based upon the success of those videos, 10 additional States and 1 Territory were provided videos in 2009. From 2010 to 2013, CSAP will invite approximately 10 States/Territories per year to produce their own videos.

Over the next 4 years, CSAP will conduct a process and outcome assessment of this project. The process assessment will focus on the experiences associated with planning and producing the State video. The outcome assessment will examine the effectiveness of the State Videos project in meeting the core project objectives and will capture the State's dissemination efforts. The process and outcome assessments will encompass State videos that will be produced in 2010-2013 and those that were produced in 2007 and 2009. State contacts will be asked to update their dissemination information online if there have been changes in these figures during the previous 6 months, up through 2013. Additionally, data will be collected from viewers of the State videos using an online survey.

The information will be collected from the primary contact employee designated by the State that is agreeing to participate in the production of a video for the State Videos project. The viewers' information will be collected from those who voluntarily decide to complete a short survey after seeing the video.

SAMHSA/CSAP intends to support annual State underage drinking prevention videos. The information collected will be used by SAMHSA/CSAP to help plan for these annual video productions and provide technical assistance to the participating States. The collected information will also provide a descriptive picture of the initiative and indicate how the videos have been received, as well as some factors that may be associated with successful dissemination outcomes.

The information needs to be collected using a combination of initial telephone interviews to collect process data, followed by online forms to collect outcome and dissemination data. A survey of viewers, collected online, will also be used to assess the effectiveness of the State videos in increasing awareness of the underage prevention activities in these States. This information collection is being implemented under authority of Section 501(d)(4) of the Public Health Service Act (42 USC 290aa).

State staff members will be contacted once the video has been finalized. These State staff members will be asked to complete a short telephone interview that asks questions about the process of producing the State video. The State Video Contacts Form includes nine items about the State video, among which are included the following:

• State's objectives for the video on underage drinking prevention.

• Targeted audiences.

• Satisfaction with technical assistance (TA) received.

• Usefulness of preplanning materials.

• Helpfulness of TA during different phases of production.

• Recommendations for improving the process.

• Recommendations for improving the content of the video.

• Advice to other States interested in producing a video.

If the State has disseminated the video at the time of the initial telephone interview, then they will also be asked to complete the second part of the State Video Contacts Form, which collects information on dissemination outcomes. The State Video Contacts Form includes 19 items about the dissemination activities of the State's video, among which are included the following:

• When they disseminated the video.

• Methods of dissemination.

• Number of people who viewed the video.

• Number of DVDs and videotapes requested.

• Effectiveness of the dissemination methods.

• Factors that contributed to the effectiveness of dissemination.

• Effect of TA received.

• Effect of the video in raising awareness about underage drinking prevention successes in the State.

• Effect of the video in raising awareness about underage drinking prevention challenges in the State.

• Effectiveness of the video in presenting State's/Territory's prevention activities.

• Feedback received.

• Unintended positive outcomes.

• Effect of TA in improving the capacity to provide effective prevention services.

After the State staff member has completed the State Video Contacts Form online, he or she will be requested to update dissemination activities online if there have been any changes during the past 6 months. This form includes seven items, among which are included the following:

• Whether there have been changes in dissemination during the past 6 months.

• Most recent dissemination numbers, by method.

• Facilitation factors.

• Additional feedback.

• Additional unintended positive outcomes.

Data will also be collected from viewers of the State videos. Each State video will include instructions on how to access the Video Viewers Form. The instructions may be a unique URL, or they may consist of instructions on each State's Web site on underage drinking prevention. This information will allow the CSAP to provide feedback to the States on their video and to measure the effectiveness of their video. The Video Viewers Form includes 24 items about the video, among which are included the following:

• When and where they viewed the video.

• Whom they recommended to view the video.

• What they learned from watching the video.

• What actions they may take because of the video.

• Whether they plan to change behaviors and knowledge about their State's activities.

The process assessment of the State videos will be conducted using telephone interviews with the State points of contact. This interview should take 10 minutes (0.167 hours). The outcome assessment of the State videos will be collected using an online form that will be completed by no more than 26 respondents and will require only 1 response per respondent. It will take an average of 10 minutes (0.167 hours) to review the instructions, complete the form, and submit it electronically.

Dissemination updates will be requested from each State point of contact every 6 months if there have been changes during that time period. These updates will be submitted electronically, and it should take approximately 5 minutes (0.083 hours) to review the instructions, complete the short form, and submit it electronically. The burden estimate is based on comments from several potential respondents who completed the online form, submitted it, and provided feedback on how long it would take them to complete it. The respondents will be employees of the State.

A short survey will also be used to collect data from viewers of the State videos. An estimated 1,000 viewers will voluntarily choose to complete this online survey, which will take 10 minutes (0.167 hours) to review, complete, and submit. The viewers are expected to be pulled from the general public.

Form name | Number of respondents | Responses per respondent | Hours per response | Total hour burden
Process Interview | 26 | 1 | 0.167 | 4.34
Dissemination Outcome | 26 | 1 | 0.167 | 4.34
Dissemination Updates | 26 | 1 | 0.083 | 2.16
Viewers Survey | 1,000 | 1 | 0.167 | 167
Total | 1,078 |  |  | 177.84

Send comments to Summer King, SAMHSA Reports Clearance Officer, Room 7-1044, One Choke Cherry Road, Rockville, MD 20857 AND e-mail a copy to: summer.king@samhsa.hhs.gov. Written comments should be received within 60 days of this notice.

Dated: May 17, 2010.
Elaine Parry,
Director, Office of Program Services.

[FR Doc. 2010-12644 Filed 5-25-10; 8:45 am]

BILLING CODE 4126-20-P